DEPARTMENT OF THE TREASURY

Internal Revenue Service

26 CFR Part 1

[TD 9206]

RIN 1545-BE12

Information Returns by Donees Relating to Qualified Intellectual Property Contributions; Correction

AGENCY: Internal Revenue Service (IRS), Treasury.

ACTION: Correction to temporary regulations.

SUMMARY: This document contains a correction to TD 9206 which was published in the Federal Register on Monday, May 23, 2005 (70 FR 29450) providing guidance for the filing of information returns by donees relating to qualified intellectual property contributions.

DATES: This correction is effective May 23, 2005.

FOR FURTHER INFORMATION CONTACT: Donnell M. Rini-Swyers, (202) 622-4910 (not a toll-free number).

SUPPLEMENTARY INFORMATION:

Background

The temporary regulation (TD 9206) that is the subject of this correction is under section 6050 of the Internal Revenue Code.

Need for Correction

As published, TD 9206, contains an error that may prove to be misleading and is in need of clarification.

Correction of Publication

Accordingly, the publication of the temporary regulations (TD 9206), that was the subject of FR Doc 05-10229, is corrected as follows:

On page 29451, column 2, in the preamble under the paragraph heading “Explanation of Provisions”, third full paragraph, line 8, the language, “Notice 2005-XX issued thereunder.” is corrected to read “Notice 2005-41, 2005-23, I.R.B. 1203, issued thereunder.”.

Cynthia Grigsby,
Acting Chief, Publications and Regulations Branch, Legal Processing Division, Associate Chief Counsel, (Procedure and Administration).

[FR Doc. 05-12403 Filed 6-22-05; 8:45 am]

BILLING CODE 4830-01-P